DEPARTMENT OF HEALTH AND HUMAN SERVICES

Indian Health Service

Notice of Tribal Consultation and Urban Confer Sessions on the State of the Great Plains Area Indian Health Service

AGENCY: Indian Health Service (IHS), Department of Health and Human Services.

ACTION: Notice of Tribal consultation and urban confer sessions on the state of the Great Plains Area IHS.

SUMMARY: Notice is hereby given that the Indian Health Service will conduct a 90 day tribal consultation and urban confer regarding the State of the Great Plains Area IHS. The IHS will conduct two telephone tribal consultation and urban confer sessions on June 22, 2016 and August 10, 2016. The IHS will also conduct two on-site tribal consultation and urban confer sessions on July 13, 2016 in Aberdeen, South Dakota and on August 30, 2016 in Rapid City, South Dakota.

DATES: The IHS will conduct two telephone Tribal consultation and urban confer sessions on June 22, 2016 and August 10, 2016. The IHS will also conduct two on-site Tribal consultation and urban confer sessions on July 13, 2016 in Aberdeen, South Dakota, and on August 30, 2016 in Rapid City, SD.

The on-site meetings in Aberdeen and Rapid City, South Dakota will be conducted at the addresses noted below. Written comments must be received on or before September 1, 2016 at the address below.

Conference Call Information: 1-800-369-1747; Pass Code: 1381519.

ADDRESSES: The meetings will be held at The Dakota Event Center located at 720 Lamont Street, Aberdeen, South Dakota; and at the Rushmore Plaza Holiday Inn Convention Center located at 505 N. Fifth Street, Rapid City, SD 57701, during the 13th Annual Direct Service Tribes National Meeting.

Written Comments: For Tribes: consultation@ihs.gov.

For Urbans: urbanconfer@ihs.gov.

FOR FURTHER INFORMATION CONTACT: CAPT Chris Buchanan, Acting Director, Great Plains Area, Indian Health Service, 115 4th Ave. SE Suite 309 Aberdeen, South Dakota, (605) 226-7584, Fax (605) 226-7541.

SUPPLEMENTARY INFORMATION: These meetings are in follow-up to the April 5-7, 2016 IHS Tribal Leaders Briefing in Sioux Falls, South Dakota. The IHS would like to invite the Great Plains Area Tribal Leaders to participate in formal consultation and interested urban Indian organizations to confer with IHS leadership to discuss the state of the Great Plains Area IHS.

The purpose of these sessions are to receive feedback on the organization of the IHS Great Plains Area Office in an effort to continue to become more patient-focused in order to better meet the needs of the American Indians in the Great Plains Area. Specific topics will include geographic location of the Great Plains Area Office, centralization or further decentralization of area office services, staffing, budget, local involvement, transparency and oversight, partnerships, accountability, and monitoring.

Tribal leaders and designated representatives as well as urban Indian organizations that are interested in submitting written testimony for the on-site or telephonic consultation and urban confer sessions can provide written comments to the following: For Tribes—consultation@ihs.gov. For Urbans—urbanconfer@ihs.gov.

The Tribal consultation and urban confer sessions will be conducted with elected or appointed leaders of Tribal governments and their designated representatives [42 U.S.C. 9835, Section 640(l)(4)(A)], and recognized representatives from urban Indian organizations, as defined by 25 U.S.C. 1603(29). Representatives from other Tribal organizations and Native non-profit organizations are welcome to attend as observers. Those wishing to participate in the discussions must have a copy of a letter signed by an elected or appointed official or their designee, which authorizes them to serve as a representative of the Tribe. This should be submitted no later than three days in advance of the Tribal consultation and urban confer session to CAPT Chris Buchanan at (605) 226-7541 (fax).

A detailed report of all written comments and comments received through the Tribal consultation and urban confer sessions will be prepared and made available within 90 days of the close of the comment period to all Tribal governments and interested urban Indian organizations within the Great Plains Area.

Dated: May 27, 2016.
Mary Smith,
Principal Deputy Director, Indian Health Service.

[FR Doc. 2016-13135 Filed 6-2-16; 8:45 am]

BILLING CODE 4165-16-P